NUCLEAR REGULATORY COMMISSION

Sunshine Notice

Dates: Weeks of August 9, 16, 23, 30, September 6, 13, 2004.

Place: Commissioners' Conference Room, 11555 Rockville Pike, Rockville, Maryland.

Status: Public and closed.

Matters To Be Considered:

Week of August 9, 2004

There are no meetings scheduled for the Week of August 9, 2004.

Week of August 16, 2004—Tentative

Tuesday, August 17, 2004

9:25 a.m. Affirmation Session (Public Meeting)

a. Private Fuel Storage (Independent Spent Fuel Storage Installation) Docket No. 72-22-ISFSI

b. Final Rule: Medical Use of Byproduct Material—Minor Amendments: Extending Expiration Date for Subpart J of Part 35

c. Tennessee Valley Authority (Watts Bar Nuclear Plant, Unit 1, Sequoyah Nuclear Plant, Units 1 & 2, Browns Ferry Nuclear Plant, Units 1, 2, & 3), Docket Nos. 50-390-CivP; 50-327-CivP; 50-328-CivP; 50-259-CivP; 50-260-CivP; 50-296-CivP; LBP-03-10 (6/26/03) (Tentative)

9:30 a.m. Meeting with Organization of Agreement States (OAS) and Conference of Radiation Control Program Directors (CRCPD) (Public Meeting) (Contact: John Zabko, 301-415-2308)

This meeting will be webcase live at the Web address— http://www.nrc.gov

1 p.m. Discussion of Security Issues (Closed—Ex. 1)

Wednesday, August 18, 2004

9:30 a.m. Discussion of Security Issues (Closed—Ex. 1)

Week of August 23, 2004—Tentative

There are no meetings scheduled for the Week of August 23, 2004.

Week of August 30, 2004—Tentative

There are no meetings scheduled for the Week of August 30, 2004.

Week of September 6, 2004—Tentative

Wednesday, September 8, 2004

9:30 a.m. Discussion of Office of Investigations (OI) Programs and Investigations (Closed—Ex. 7)

2 p.m. Discussion of Intragovernmental Issues (Closed—Ex. 1-9)

Week of September 13, 2004—Tentative

Tuesday, September 14, 2004

9:30 a.m. Discussion of Security Issues (Closed—Ex. 1)

* The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.htm.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determiantions on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 5, 2004.
Dave Gamberoni,
Office of the Secretary.

[FR Doc. 04-18311 Filed 8-6-04; 9:28 am]

BILLING CODE 7590-01-M